UNITED STATES INSTITUTE OF PEACE

Notice Regarding Board of Directors Meetings

AGENCY: Endowment of the United States Institute of Peace, United States Institute of Peace (USIP).

ACTION: Announcement of meeting.

SUMMARY: USIP announces the next meeting of the Board of Directors.

DATES: Friday, October 20, 2023 (9 a.m.-12:30 p.m.). The next meeting of the Board of Directors will be held January 19, 2024.

ADDRESSES: 2301 Constitution Avenue NW, Washington, DC 20037.

FOR FURTHER INFORMATION CONTACT: Megan O'Hare, 202-429-4144, mohare@usip.gov.

SUPPLEMENTARY INFORMATION: Open Session—Portions may be closed pursuant to subsection (c) of section 552b of title 5, United States Code, as provided in subsection 1706(h)(3) of the United States Institute of Peace Act, Public Law 98-525.

(Authority: 22 U.S.C. 4605(h)(3))

Dated: October 11, 2023.
Rebecca Fernandes,
Director of Accounting.

[FR Doc. 2023-22737 Filed 10-13-23; 8:45 am]

BILLING CODE 2810-03-P